DEPARTMENT OF HOUSING AND URBAN DEVELOPMENT

DEPARTMENT OF TRANSPORTATION

[Docket No. FR-5415-N-12]

Notice of Funding Availability for the Department of Housing and Urban Development's Community Challenge Planning Grants and the Department of Transportation's TIGER II Planning Grants

Correction

In notice document 2010-15353 beginning on page 36246 in the issue of Thursday, June 24, 2010, make the following correction:

On page 36245, on the cover for separate part V, “Department of Health and Human Services” should read “Department of Housing and Urban Development”.

[FR Doc. C1 2010-15353 Filed 7-1-10; 8:45 am]

BILLING CODE 1505-01-D